DEPARTMENT OF COMMERCE

Economic Development Administration

Agency Information Collection Activities; Submission for OMB Review; Comment Request; Recompete Pilot Program Implementation Data Collection Instrument

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on November 14, 2024, during a 60-day comment period. This notice allows for an additional 30 days for public comments.

Agency: Economic Development Administration, Commerce.

Title: Recompete Pilot Program Implementation Data Collection Instrument.

OMB Control Number: New information collection.

Form Number(s): None.

Type of Request: Regular.

Number of Respondents: 6.

Average Hours per Response: 7.

Burden Hours: 84. This notice includes the correct estimated total annual burden hours.

Needs and Uses: The purpose of this notice is to seek comments from the public and other Federal agencies on a request for a new information collection for six Phase 2 Awardees to help ensure that Recompete investments are evidence-based, data-driven, and accountable to participants and the public.

Coalition leads for the six Recompete Awardees will submit identified program metrics and qualitative information to help assess specific program objectives. A recurring questionnaire will be sent to each of the Recompete coalition leads every six months for a total of five years to gather the relevant data and stories for their awards, resulting in community impact evaluation, resources, and tools for place-based economic development decisionmakers. The six Recompete Awardees will provide information on the following areas related to Recompete objectives:

(1) Employment among prime-age individuals who interact with Recompete programming, which may include information on success stories, employment, and wage outcomes for participants in EDA-funded activities.

(2) Economic distress in Recompete service areas, which may include information on success stories, changes in local employment rates, changes in local income and wage rates, and other place-based metrics.

(3) Effectiveness of workforce development programming, which may include information on enrollment, completion, placement, retention, and attrition for individuals participating in EDA-funded activities, in addition to the examples of outcomes metrics in objective #1.

(4) Effectiveness of entrepreneurship and small business supports, which may include information on enrollment, completion, business launch, and business success for entrepreneurs and small/mid-size enterprises participating in EDA-funded activities, as well as their impact on local employment.

(5) Local economic development capacity, which may include assessing relationships with federal, state, and local entities, current partnerships, and information about sources of capital and commitments to continue to ensure economic well-being in the Recompete community.

Recompete Awardees must submit data on a semi-annual basis (i.e., every six months) for five years to provide an update on the status of the coalition's efforts and to help assess the results of receiving Phase 2 Recompete funding.

Affected Public: Phase 2 Recompete Awardees.

Frequency: Semi-Annually.

Respondent Obligation: Mandatory for Recompete Awardees.

Legal Authority: Stevenson Wydler Technology Innovation Act of 1980, Section 29 (15 U.S.C. 3722b).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Departmental PRA Compliance Officer, Office of the Under Secretary of Economic Affairs, Commerce Department.

[FR Doc. 2025-12013 Filed 6-27-25; 8:45 am]

BILLING CODE 3510-34-P